DEPARTMENT OF HEALTH AND HUMAN SERVICES

National Institutes of Health

National Cancer Institute; Amended Notice of Meeting

Notice is hereby given of a change in the meeting of the National Cancer Institute Special Emphasis Panel, September 18, 2019, 8:00 a.m. to September 19, 2019, 3:00 p.m., Gaithersburg Washingtonian Marriott, 9751 Washingtonian Blvd., Gaithersburg, MD 20878 which was published in the Federal Register on August 12, 2019, 84 FR 39858.

The meeting notice is amended to change the meeting start time on September 18, 2019 from 8:00 a.m. to 4:00 p.m. and the meeting end time on September 19, 2019 from 3:00 p.m. to 4:30 p.m. The meeting is closed to the public.

Dated: August 27, 2019.
Melanie J. Pantoja,
Program Analyst, Office of Federal Advisory Committee Policy.

[FR Doc. 2019-18896 Filed 8-30-19; 8:45 am]

BILLING CODE 4140-01-P